DEPARTMENT OF COMMERCE

National Oceanic and Atmospheric Administration

50 CFR Part 635

[I.D. 121202A]

Atlantic Highly Migratory Species Fisheries; Atlantic Bluefin Tuna

AGENCY: National Marine Fisheries Service (NMFS), National Oceanic and Atmospheric Administration (NOAA), Commerce.

ACTION: General category closure.

SUMMARY: NMFS has determined that the 2002 fishing year Atlantic bluefin tuna (BFT) General category quota will be attained by December 15, 2002. Therefore, the General category fishery will be closed effective 11:30 p.m. on December 15, 2002. This action is being taken to prevent overharvest of the total adjusted General category quota of 882.0 metric tons (mt).

DATES: Effective 11:30 p.m. local time on December 15, 2002, through May 31, 2003.

FOR FURTHER INFORMATION CONTACT: Brad McHale or Dianne Stephan,

978-281-9260.

SUPPLEMENTARY INFORMATION: Regulations implemented under the authority of the Atlantic Tunas Convention Act (16 U.S.C. 971 et seq.) and the Magnuson-Stevens Fishery Conservation and Management Act (16 U.S.C. 1801 et seq.) governing the harvest of BFT by persons and vessels subject to U.S. jurisdiction are found at 50 CFR part 635. Section 635.27 subdivides the U.S. BFT quota recommended by the International Commission for the Conservation of Atlantic Tunas among the various domestic fishing categories. The General category landings quota, including time-period subquotas and the New York Bight set-aside, are specified annually as required under § 635.27(a)(1). The 2002 fishing year General category quota and effort control specifications were issued on October 1, 2002 #(67 FR 61537).

General Category Closure

NMFS is required, under § 635.28 (a)(1), to file with the Office of the Federal Register for publication, notification of closure when a BFT quota is reached, or is projected to be reached. On and after the effective date and time of such closure notification, for the remainder of the fishing year, or for a specified period as indicated in the notification, fishing for, retaining, possessing, or landing BFT under that quota category is prohibited until the opening of the subsequent quota period, or until such date as specified in the notification.

Adjustments to the 2002 fishing year BFT quota specifications issued pursuant to § 635.27 (FR cites on 67 FR 68045 Nov. 8 '02 adjustments and 67 FR 71487 Dec. 2 '02) set a total coastwide General category quota of 882.0 mt of large medium and giant BFT to be harvested from the regulatory area during the 2002 fishing year. Based on reported landings and effort, NMFS projects that this quota will be reached by December 15, 2002. Therefore, fishing for, retaining, possessing, or landing large medium or giant BFT intended for sale by persons aboard vessels in the General or Charter/Headboat categories must cease at 11:30 p.m. local time December 15, 2002. The intent of this closure is to prevent overharvest of the adjusted quota established for the General category.

General category permit holders may tag and release BFT while the General category is closed, subject to the requirements of the tag-and-release program at § 635.26.

Vessels permitted in the HMS Charter/Headboat category may continue to fish for and retain BFT under the Angling category regulations. The current Angling category daily retention limit, effective from November 1, 2002 through May 31, 2003 (67 FR 39869, June 11, 2002) is one large school or small medium BFT (measuring from 47 to less than 73 inches (from 119 to less than 185 cm) curved fork length). In addition, HMS Charter/Headboat category vessels may continue to retain one large medium or giant “trophy” BFT, measuring 73 inches (185 cm) or greater, per fishing year (June 1 through May 31). Trophy BFT can not be sold and all BFT landed under the Angling category quota must be reported by calling 1-888-872-8862 or by using the Internet at www.nmfspermits.com, unless there is a landing tag requirement in the state of landing.

Classification

The Assistant Administrator for Fisheries, NOAA (AA), finds for good cause that providing prior notice and public comment for this action, as required under 5 U.S.C. 553 (b) (B), is impracticable and contrary to the public interest. This closure is intended to prevent the overharvest of the adjusted BFT quota established for the coastwide General category. The fishery is currently underway and any delay in closure could cause the fishery to exceed the quota and be inconsistent with domestic and international requirements and objectives. For these reasons the AA also finds good cause to waive the 30-day delay in effective date pursuant to 5 U.S.C. 553 (d) (1) and (3). NMFS provides as much advance notification of the closure as possible by publishing the closure notice in the Federal Register, faxing notification to individuals on the HMS FAX Network and to known fishery representatives, announcing the notice on the Atlantic Tunas Information Line, and announcing the closure notice over NOAA Weather and Coast Guard radio channels. This action is required under 50 CFR 635.28(a) (1) and is exempt from review under Executive Order 12866.

Authority: 16 U.S.C. 971 et seq. and 1801 et seq.

Dated: December 13, 2002.
John H. Dunnigan,
Director, Office of Sustainable Fisheries, National Marine Fisheries Service.

[FR Doc. 02-31853 Filed 12-13-02; 2:38 pm]

BILLING CODE 3510-22-S